DEPARTMENT OF ENERGY

Federal Energy Regulatory Commission

[Project No. 12141-001]

Energy Recycling Company; Notice of Surrender of Preliminary Permit

March 10, 2004.

Take notice that the permittee for the subject project has requested to surrender its preliminary permit. Investigations and feasibility studies have shown that the project would not be economically feasible.

Project No. | Project name | Stream | State | Expiration date
12141-001 | Proposed Pumped Storage | None | OR | 06-30-2005

The permit shall remain in effect through the thirtieth day after issuance of this notice unless that day is Saturday, Sunday, or holiday as described in 18 CFR 385.2007, in which case the permit shall remain in effect through the first business day following that day. New applications involving this project site, to the extent provided for under 18 CFR part 4, may be filed on the next business day.

Magalie R. Salas,
Secretary.

[FR Doc. E4-598 Filed 3-15-04; 8:45 am]

BILLING CODE 6717-01-P